ENVIRONMENTAL PROTECTION AGENCY

[EPA-HQ-OEI-2009-0795, FRL-8976-8]

Office of Environmental Information; Announcement of Availability and Comment Period for Revised Environmental Sampling, Analysis and Results Data Standards (ESAR)

AGENCY: Environmental Protection Agency (EPA).

ACTION: Notice of data availability and request for comment.

SUMMARY: Notice of availability for a 30 day review and comment period is hereby given for six revised data standards—Well Information Data Standard, ESAR: Field Activity, ESAR: Monitoring Location, ESAR: Analysis and Results, ESAR: Project and Quality Assurance and Quality Control Data Standards.

ESAR, along with the suite of related data standards, enhances the availability and exchange of monitoring data used for environmental decision-making. Biological related data elements are largely missing from ESAR and given the importance and interest in these data, the Environmental Council of States (ECOS) and US EPA worked together to adapt/incorporate two Advisory Committee on Water Information (ACWI) approved standards into ESAR.

The ACWI approved Water Quality Data Elements for Reporting Results of Populations/Community Biological Assessments and Toxicity Test Analyses (TOX and POP) has been adapted for inclusion in ESAR

DATES: Comments must be received on or before December 17, 2009.

ADDRESSES: Submit your comments, identified by Docket ID No. EPA-HQ-OEI-2009-0795 by one of the following methods:

• www.regulations.gov: Follow the on-line instructions for submitting comments.

• E-mail: oei-docket@epa.gov

• Fax: 202-566-1753

• Mail: Announcement of Availability and Comment Period for Revised, Environmental Sampling, Analysis and Results Data Standards (ESAR), Environmental Protection Agency, Mail code: 2822T, 1200 Pennsylvania Ave., NW., Washington, DC 20460. Please include a total of four copies.

• Hand Delivery: EPA Docket Center (EPA/DC), EPA West, Room 3334, 1301 Constitution Ave., NW., Washington, DC 20460. Please include a total of four copies. Such deliveries are only accepted during the Docket's normal hours of operation, and special arrangements should be made for deliveries of boxed information.

Instructions: Direct your comments to Docket ID No. EPA-HQ-OEI-2009-0795. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the OEI Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the OEI Docket is (202) 566-1752.

FOR FURTHER INFORMATION CONTACT: Michael Pendleton, Information Exchange & Services Division, Office of Environmental Information, U.S. EPA, 1200 Pennsylvania Ave., NW., MC 2823T; Washington, DC 20460; phone 202-566-1658; fax 202-566-1684; e-mail: Pendleton.michael@epa.gov.

SUPPLEMENTARY INFORMATION: Standards are intended for use in environmental data exchange among States, Tribal entities and U.S. EPA. They are not meant to dictate or limit data an agency chooses to collect for its own internal purposes. Adoption of a data standard should be interpreted to mean that revisions to databases or information systems are required. What the adoption does mean is that formats for sharing data with Exchange Network (EN) partners will change because the EN has adopted Shared Schema Components (SSCs) based on the data standards. The SSCs are available on the Exchange Network Web site at: http://www.exchangenetwork.net.

The revised data standards are available through the Docket system as indicated above and at: http://www.epa.gov/datastandards, and http://www.exchangenetwork.net/standards.

Dated: October 8, 2009.
Connie Dwyer,
Director, Information Exchange & Services Division.

[FR Doc. E9-27605 Filed 11-16-09; 8:45 am]

BILLING CODE 6560-50-P